DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2022 Semiannual Agenda of Regulations

AGENCY: Office of the Secretary, Commerce.

ACTION: Semiannual Regulatory Agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the fall 2022 agenda.

The purpose of the Agenda is to provide information to the public on regulations that are currently under review, being proposed, or recently issued by Commerce. It is expected that this information will enable the public to participate more effectively in the Department's regulatory process.

Commerce's spring 2023 regulatory agenda includes regulatory activities that are expected to be conducted during the period June 1, 2023, through May 31, 2024.

FOR FURTHER INFORMATION CONTACT:

Specific: For additional information about specific regulatory actions listed in the agenda, contact the individual identified as the contact person.

General: Comments or inquiries of a general nature about the agenda should be directed to Candida Harty, Chief Counsel for Regulation, Office of the Assistant General Counsel for Legislation and Regulation, U.S. Department of Commerce, Washington, DC 20230, telephone: 202-482-3410.

SUPPLEMENTARY INFORMATION: Commerce hereby publishes its spring 2023 Unified Agenda of Federal Regulatory and Deregulatory Actions pursuant to Executive Order 12866 and the Regulatory Flexibility Act, 5 U.S.C. 601 et seq. Executive Order 12866 requires agencies to publish an agenda of those regulations that are under consideration. By memorandum of February 22, 2023, the Office of Management and Budget issued guidelines and procedures for the preparation and publication of the spring 2023 Unified Agenda. The Regulatory Flexibility Act requires agencies to publish, in the spring and fall of each year, a regulatory flexibility agenda that contains a brief description of the subject of any rule likely to have a significant economic impact on a substantial number of small entities.

The internet is the basic means for disseminating the Unified Agenda. The complete Unified Agenda is available online at www.reginfo.gov, in a format that offers users a greatly enhanced ability to obtain information from the Agenda database.

In this edition of Commerce's regulatory agenda, a list of the most important significant regulatory and deregulatory actions and a Statement of Regulatory Priorities are included in the Regulatory Plan, which appears in both the online Unified Agenda and in part II of the issue of the Federal Register that includes the Unified Agenda.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations.

Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for the fisheries within their respective areas in the EEZ. Membership of these Councils is comprised of representatives of the commercial and recreational fishing sectors in addition to environmental, academic, and government interests. Council members are nominated by the governors and ultimately appointed by the Secretary of Commerce. The Councils are required by law to conduct public hearings on the development of FMPs and FMP amendments. Consistent with applicable law, environmental and other analyses are developed that consider alternatives to proposed actions.

Pursuant to the Magnuson-Stevens Act, the Councils also recommend actions to NMFS deemed necessary or appropriate to implement FMPs. The proposed regulations, FMPs, and FMP amendments are subject to review and approval by NMFS, based on consistency with the Magnuson-Stevens Act and other applicable law. The Council process for developing FMPs and amendments makes it difficult for NMFS to determine the significance and timing of some regulatory actions under consideration by the Councils at the time the semiannual regulatory agenda is published.

Commerce's spring 2023 regulatory agenda follows.

Leslie Kiernan,
General Counsel.

General Administration—Proposed Rule Stage
Sequence No. | Title | Regulation Identifier No.
25 | Securing the Information and Communications Technology and Services Supply Chain: Licensing Procedures | 0605-AA60
26 | Taking Additional Steps to Address the National Emergency With Respect to Significant Malicious Cyber-Enabled Activities | 0605-AA61

General Administration—Final Rule Stage
Sequence No. | Title | Regulation Identifier No.
27 | Securing the Information and Communications Technology and Services Supply Chain | 0605-AA51

International Trade Administration—Final Rule Stage
Sequence No. | Title | Regulation Identifier No.
28 | Procedures Covering Suspension of Liquidation, Duties and Estimated Duties in Accord With Presidential Proclamation 10414 | 0625-AB21

National Oceanic and Atmospheric Administration—Prerule Stage
Sequence No. | Title | Regulation Identifier No.
29 | Atlantic Highly Migratory Species; Electronic Reporting Requirements | 0648-BM23

National Oceanic and Atmospheric Administration—Proposed Rule Stage
Sequence No. | Title | Regulation Identifier No.
30 | International Fisheries; South Pacific Tuna Fisheries; Implementation of Amendments to the South Pacific Tuna Treaty | 0648-BG04
31 | Illegal, Unreported, and Unregulated Fishing; Fisheries Enforcement; High Seas Driftnet Fishing Moratorium Protection Act | 0648-BG11
32 | Atlantic Highly Migratory Species; Research and Data Collection in Support of Spatial Fisheries Management | 0648-BI10
33 | Rulemaking to Modify the 2023-2027 Halibut Individual Fishing Quota (IFQ) Vessel Harvest Limitations in IFQ Regulatory Areas 4A, 4B, 4C, and 4D | 0648-BM18
34 | Amendment 32 to the Pacific Coast Groundfish Fishery Management Plan—Modifications to Non-Trawl Area Management Measures | 0648-BM28
35 | Designation of Critical Habitat for Threatened Indo-Pacific Reef-Building Corals | 0648-BJ52

National Oceanic and Atmospheric Administration—Final Rule Stage
Sequence No. | Title | Regulation Identifier No.
36 | Magnuson-Stevens Fisheries Conservation and Management Act; Traceability Information Program for Seafood | 0648-BH87
37 | Amendment 122 to the Fishery Management Plan for Groundfish of the Bering Sea and Aleutian Islands Management Area; Pacific Cod Trawl Cooperative Program | 0648-BL08
38 | Amendment 123 to the Fishery Management Plan for Groundfish of the Bering Sea and Aleutian Islands Management Area; Halibut Abundance-Based Management of Amendment 80 Prohibited Species Catch Limit | 0648-BL42
39 | 2023-2024 Harvest Specifications and Management Measures for the Pacific Coast Groundfish Fishery | 0648-BL48
40 | 2023 Summer Flounder, Scup, and Black Sea Bass Recreational Management Measures | 0648-BM09
41 | Amendment and Updates to the Pelagic Longline Take Reduction Plan | 0648-BF90
42 | Designation of Critical Habitat for the Threatened Caribbean Corals | 0648-BG26
43 | Amendments to the North Atlantic Right Whale Vessel Strike Reduction Rule | 0648-BI88
44 | Establishment of Time-Area Closures for Hawaiian Spinner Dolphins Under the Marine Mammal Protection Act | 0648-BK04

National Oceanic and Atmospheric Administration—Long-Term Actions
Sequence No. | Title | Regulation Identifier No.
45 | Regulatory Amendment to the Pacific Coast Groundfish Fishery Management Plan to Implement an Electronic Monitoring Program for Bottom Trawl and Non-Whiting Midwater Trawl Vessels | 0648-BH70
46 | Amendment 14 to the Fishery Management Plan for the Salmon Fisheries in the EEZ Off Alaska | 0648-BK31
47 | Atlantic Highly Migratory Species; Amendment 16 to the 2006 Consolidated Atlantic Highly Migratory Species Fishery Management Plan | 0648-BM08

National Oceanic and Atmospheric Administration—Completed Actions
Sequence No. | Title | Regulation Identifier No.
48 | Atlantic Highly Migratory Species: Amendment 13 on Bluefin Tuna Management | 0648-BI08
49 | Amendment 23 to the Northeast Multispecies Fishery Management Plan | 0648-BK17
50 | Revisions to Federal Regulations to Economic Data Reporting Requirements for Groundfish and Crab Fisheries off Alaska and Amendment 52 to the Fishery Management Plan for BSAI King and Tanner Crabs | 0648-BL50
51 | Framework Adjustment 36 to the Atlantic Sea Scallop Fishery Management Plan | 0648-BL99

Patent and Trademark Office—Proposed Rule Stage
Sequence No. | Title | Regulation Identifier No.
52 | Setting and Adjusting Patent Fees | 0651-AD64
53 | Setting and Adjusting Trademark Fees | 0651-AD65

DEPARTMENT OF COMMERCE (DOC)

General Administration (ADMIN)

Proposed Rule Stage

25. Securing the Information and Communications Technology and Services Supply Chain: Licensing Procedures [0605-AA60]

Legal Authority: Not Yet Determined

Abstract: The Department is seeking public input regarding establishing a licensing process for entities to seek pre-approval before engaging in or continuing to engage in potentially regulated ICTS Transactions under the “Securing the Information and Communications Technology and Services Supply Chain” rule.

Timetable:

Action | Date | FR Cite
ANPRM | 03/29/21 | 86 FR 16312
ANPRM Comment Period End | 04/28/21 |
NPRM | 09/00/23 |

Regulatory Flexibility Analysis Required: Yes.

Agency Contact: Joseph Bartels, Department of Commerce, 1401 Constitution Avenue NW, Washington, DC 20230, Phone: 202 482-1595, Email: jbartels@doc.gov.

RIN: 0605-AA60

26. Taking Additional Steps To Address the National Emergency With Respect to Significant Malicious Cyber-Enabled Activities [0605-AA61]

Legal Authority: Not Yet Determined

Abstract: Executive Order 13984 of January 19, 2021, entitled Taking Additional Steps to Address the National Emergency with Respect to Significant Malicious Cyber-Enabled Activities (E.O. 13984), has directed the Secretary of Commerce (Secretary) to implement regulations that would govern the process and procedures that the Secretary will use to deter foreign malicious cyber actors' use of United States Infrastructure as a Service (IaaS) products and assist in the investigation of transactions involving foreign malicious cyber actors.

Timetable:

Action | Date | FR Cite
ANPRM | 09/24/21 | 86 FR 53018
ANPRM Comment Period End | 10/25/21 |
NPRM | 09/00/23 |

Regulatory Flexibility Analysis Required: Yes.

Agency Contact: Joseph Bartels, Department of Commerce, 1401 Constitution Avenue NW, Washington, DC 20230, Phone: 202 482-1595, Email: jbartels@doc.gov.

RIN: 0605-AA61

DEPARTMENT OF COMMERCE (DOC)

General Administration (ADMIN)

Final Rule Stage

27. Securing the Information and Communications Technology and Services Supply Chain [0605-AA51]

Legal Authority: 50 U.S.C. 1701; 3 U.S.C. 301

Abstract: Pursuant to Executive Order 13873 of May 15, 2019, “Securing the Information and Communications Technology and Services Supply Chain,” (Executive Order) the Department of Commerce (the Department) is implementing the process and procedures that the Secretary of Commerce (Secretary) will use to identify, assess, and address transactions that pose an undue risk to the security, integrity, and reliability of information and communications technology and services provided and used in the United States.

Timetable:

Action | Date | FR Cite
NPRM | 11/27/19 | 84 FR 65316
NPRM Comment Period End | 12/27/19 |
Interim Final Rule | 01/19/21 | 86 FR 4909
Interim Final Rule Comment Period End | 03/22/21 |
Interim Final Rule Effective Date | 03/22/21 |
Final Action | 09/00/23 |

Regulatory Flexibility Analysis Required: Yes.

Agency Contact: Joseph Bartels, Department of Commerce, 1401 Constitution Avenue NW, Washington, DC 20230, Phone: 202 482-1595, Email: jbartels@doc.gov.

RIN: 0605-AA51

DEPARTMENT OF COMMERCE (DOC)

International Trade Administration (ITA)

Final Rule Stage

28. Procedures Covering Suspension of Liquidation, Duties and Estimated Duties in Accord With Presidential Proclamation 10414 [0625-AB21]

Legal Authority: Proc 10414, 87 FR 35067; 19 U.S.C. 1318

Abstract: In accordance with Presidential Proclamation 10414 and pursuant to its authority under Section 318(a) of the Tariff Act of 1930, as amended (the Act), the Department of Commerce (Commerce) is issuing this final rule to implement Proclamation 10414. Specifically, Commerce is issuing a new rule that, in the event of an affirmative preliminary or final determination in the antidumping and countervailing duty (AD/CVD) circumvention inquiries described below, under Title VII of the Act, extends the time for, and waives, the suspension of liquidation, the application of certain AD/CVD duties, and the collection of cash deposits on applicable entries of certain crystalline silicon photovoltaic cells, whether or not assembled into modules, that are completed in the Kingdom of Cambodia (Cambodia), Malaysia, the Kingdom of Thailand (Thailand), and the Socialist Republic of Vietnam (Vietnam) using parts and components manufactured in the People's Republic of China (China), and that are not already subject to an antidumping or countervailing duty order.

Timetable:

Action | Date | FR Cite
NPRM | 07/01/22 | 87 FR 39426
NPRM Comment Period End | 08/01/22 |
Final Action | 09/16/22 | 87 FR 56868
Final Action Effective | 11/15/22 |
Next Action Undetermined | 06/00/23 |

Regulatory Flexibility Analysis Required: Yes.

Agency Contact: Nikki Kalbing, Department of Commerce, International Trade Administration, Washington, DC 20230, Phone: 202 717-3147, Email: nikki.kalbing@trade.gov.

RIN: 0625-AB21

DEPARTMENT OF COMMERCE (DOC)

National Oceanic and Atmospheric Administration (NOAA)

Prerule Stage

National Marine Fisheries Service

29. • Atlantic Highly Migratory Species; Electronic Reporting Requirements [0648-BM23]

Legal Authority: 16 U.S.C. 1801 et seq. 16 U.S.C. 971 et seq.

Abstract: Atlantic highly migratory species (HMS) are managed under the authority of the Magnuson-Stevens Fishery Conservation and Management Act, 16 U.S.C. 1801 et seq., and the Atlantic Tunas Convention Act (ATCA), id. 971 et seq., the implementing statute for binding recommendations of the International Commission for the Conservation of Atlantic Tunas. This ANPR would consider options to: (1) streamline logbook reporting by converting existing commercial paper logbooks to electronic logbooks; (2) expand logbook reporting to recreational and commercial permit holders via electronic logbooks, to be consistent with Agency efforts in other fisheries and to augment data collected for fishery management; (3) collect additional information through existing electronic reporting mechanisms for dealers and recreational permit holders to augment data collected for fishery management; and (4) facilitate HMS reporting including considering ways to incentivize reporting compliance (or penalize noncompliance) and offering an electronic reporting platform for HMS Exempted Fishing Permit Program permit holders. This action is being taken pursuant to the rulemaking authority under section 304(c) of the Magnuson-Stevens Fishery Conservation and Management Act. 16 U.S.C. 1854(c).

Timetable:

Action | Date | FR Cite
ANPRM | 06/00/23 |

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BM23

DEPARTMENT OF COMMERCE (DOC)

National Oceanic and Atmospheric Administration (NOAA)

Proposed Rule Stage

National Marine Fisheries Service

30. International Fisheries; South Pacific Tuna Fisheries; Implementation of Amendments to the South Pacific Tuna Treaty [0648-BG04]

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 09/00/23 |

Regulatory Flexibility Analysis Required: Yes.

Agency Contact: Sarah Malloy, Acting Regional Administrator, Pacific Islands Region, Department of Commerce, National Oceanic and Atmospheric Administration, 1845 Wasp Boulevard, Building 176, Honolulu, HI 96818, Phone: 808 725-5000, Email: sarah.malloy@noaa.gov.

RIN: 0648-BG04

31. Illegal, Unreported, and Unregulated Fishing; Fisheries Enforcement; High Seas Driftnet Fishing Moratorium Protection Act [0648-BG11]

Legal Authority: Pub. L. 114-81

Abstract: This proposed rule would make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule would also implement the Port State Measures Agreement. To that end, this proposed rule would require the collection of certain information from foreign fishing vessels requesting permission to use U.S. ports. It also includes procedures to designate and publicize the ports to which foreign fishing vessels may seek entry and procedures for conducting inspections of these foreign vessels accessing U.S. ports. Further, the rule would establish procedures for notification of: the denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 07/08/22 | 87 FR 40763
NPRM Comment Period End | 09/06/22 |
Second NPRM | 06/00/23 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BG11

32. Atlantic Highly Migratory Species; Research and Data Collection in Support of Spatial Fisheries Management [0648-BI10]

Legal Authority: 16 U.S.C. 1801 et seq.

Abstract: This rulemaking would address conducting research in areas currently closed to fishing for Atlantic highly migratory species (HMS)—during various times or by certain gear—to collect fishery-dependent data. A number of time/area closures or gear-restricted areas have been implemented over the years through various rulemakings, limiting fishing for Atlantic highly migratory species in those areas for a variety of reasons including reducing bycatch. These time/area closures have been implemented in consultation with the HMS Advisory Panel to protect species consistent with the Magnuson-Stevens Fisheries Conservation and Management Act (e.g., to reduce bycatch in the pelagic longline fishery off the east coast of Florida), the Endangered Species Act e.g., to protect sea turtles in the North Atlantic), and the Atlantic Tunas Convention Act (e.g., to protect spawning bluefin tuna in the Gulf of Mexico). Fishery-dependent data supports effective fisheries management, and areas that restrict fishing effort often have a commensurate decrease in fishery-dependent data collection. Programs to facilitate research and data collection, such as those that would be covered by this rulemaking, could assess the efficacy of closed areas, improve sustainable management of highly migratory species, and may provide benefits to commercial and recreational fishermen.

Timetable:

Action | Date | FR Cite
NPRM | 05/05/23 | 88 FR 29050
NPRM Comment Period End | 09/15/23 |
Final Action | 11/00/23 |

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI10

33. • Rulemaking To Modify the 2023-2027 Halibut Individual Fishing Quota (IFQ) Vessel Harvest Limitations in IFQ Regulatory Areas 4A, 4B, 4C, and 4D [0648-BM18]

Legal Authority: 16 U.S.C. 773

Abstract: Commercial halibut fishing off the coast of Alaska is managed under an Individual Fishing Quota (IFQ) program implemented by Federal regulations under the authority of the Northern Pacific Halibut Act of 1982, 16 U.S.C. 773 et seq. On February 10, 2023, the North Pacific Fishery Management Council (Council) recommended to temporarily remove IFQ halibut vessel caps for the 2023-2027 fishing years in IFQ regulatory areas 4A (Eastern Aleutian Islands), 4B (Central and Western Aleutian Islands), 4C (Central Bering Sea), and 4D (Eastern Bering Sea). This action is needed to provide continued flexibility and consistency in the Pacific halibut fishery. This action would implement the temporary management measure that has been recommended by the Council and implemented by NMFS annually since 2020 for a 5-year period. This action would revise 50 CFR 679.42(h)(1) to remove vessels caps in those four areas for the 2023-2027 fishing year. This temporary action would provide consistency for fishery participants over the next five years, while the Council develops a long-term solution to modify vessel use caps in Area 4. Halibut IFQ holders with quota share in those four areas would be affected by this action, as well as Community Quota Entities in area 4B. This action would not modify any other aspects of the IFQ Program. Section 773c(c) of the Northern Pacific Halibut Act is the rulemaking authority.

Timetable:

Action | Date | FR Cite
NPRM | 06/00/23 |

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BM18

34. • Amendment 32 to the Pacific Coast Groundfish Fishery Management Plan—Modifications to Non-Trawl Area Management Measures [0648-BM28]

Legal Authority: 16 U.S.C. 1801 et seq.; 16 U.S.C. 773 et seq.; 16 U.S.C. 7001 et seq.

Abstract: With the rebuilt status of several groundfish stocks, the Pacific Fishery Management Council (Council) has for several years been prioritizing increased access to the Non-Trawl Rockfish Conservation Area (RCA) and Cowcod Conservation Area (CCA), which are groundfish closed areas initially enacted to protect overfished rockfish species. This action was included on the Council's list of priority actions under E.O. 13921. Currently, all but one species of rockfish has been declared rebuilt, and the remaining species (yelloweye rockfish) is projected to rebuild ahead of schedule. In accordance with a recommendation from the Council at their March 2023 meeting, and under the authority of the Magnuson-Stevens Fishery Conservation and Management Act and the Northern Pacific Halibut Act of 1982, the National Marine Fisheries Service (NMFS) West Coast Region proposes to implement a suite of changes to non-trawl area management measures seaward of California and Oregon. Specifically, NMFS proposes to: (1) allow increased fishing access to the Non-Trawl RCA for the commercial groundfish limited entry fixed gear sector and vessels that gear switch under the Trawl Individual Fishing Quota program; (2) modify gear restrictions in the Non-Trawl RCA for all non-trawl commercial groundfish sectors; (3) open a portion of the Non-Trawl RCA for all non-trawl commercial groundfish sectors and the directed halibut fishery; (3) open the CCA seaward of California for all groundfish commercial and recreational non-trawl sectors, and (4) enable the use of Block Area Closures to mitigate groundfish catch for all non-trawl sectors. The purpose of this action to provide fishing access to healthy groundfish stocks for non-trawl groundfish fisheries and the directed halibut fishery while still meeting the conservation objectives of the Pacific Coast Groundfish Fishery Management Plan.

Timetable:

Action | Date | FR Cite
NPRM | 07/00/23 |

Regulatory Flexibility Analysis Required: Yes.

Agency Contact: Scott Rumsey, Acting Regional Administrator, West Coast Region, Department of Commerce, National Oceanic and Atmospheric Administration, 1201 NE Lloyd Boulevard, Suite 1100, Portland, OR 97232, Phone: 503 872-2791, Email: scott.rumsey@noaa.gov.

RIN: 0648-BM28

35. Designation of Critical Habitat for Threatened Indo-Pacific Reef-Building Corals [0648-BJ52]

Legal Authority: 16 U.S.C. 1531 et seq.

Abstract: On September 10, 2014, NMFS listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). This proposed rule would designate critical habitat for the listed Caribbean coral species. The proposed designation may cover coral reef habitat around 13 island or atoll units in the Pacific Islands Region, including three in American Samoa, one in Guam, seven in the Commonwealth of the Mariana Islands, and two in Pacific Remote Island Areas, containing essential features that support reproduction, growth, and survival of the listed coral species. NMFS will coordinate the Departments of the Navy, Air Force, and Army as well as the U.S. Coast Guard to assess any potential national security impacts that may result from the critical habitat designation. Based on information provided, we will determine whether to propose to exclude any areas based on national security impacts.

Timetable:

Action | Date | FR Cite
NPRM | 11/27/20 | 85 FR 76262
NPRM Comment Period End | 01/26/21 |
NPRM Comment Period Extended | 12/23/20 | 85 FR 83899
NPRM Comment Period Extended End | 02/25/21 |
Second NPRM Comment Period Extended | 02/09/21 | 86 FR 8749
Second Extended Comment Period End | 03/27/21 |
Third NPRM Comment Period Extended | 03/29/21 | 86 FR 16325
Third NPRM Comment Period Extended End | 05/26/21 |
Second NPRM | 06/00/23 |

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BJ52

DEPARTMENT OF COMMERCE (DOC)

National Oceanic and Atmospheric Administration (NOAA)

Final Rule Stage

National Marine Fisheries Service

36. Magnuson-Stevens Fisheries Conservation and Management Act; Traceability Information Program for Seafood [0648-BH87]

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking would establish permitting, reporting and recordkeeping requirements for domestic producers of shrimp and abalone from the point of production to entry into commerce.

Timetable:

Action | Date | FR Cite
NPRM | 10/11/18 | 83 FR 51426
NPRM Comment Period End | 11/26/18 |
Final Action | 07/00/23 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BH87

37. Amendment 122 to the Fishery Management Plan for Groundfish of the Bering Sea and Aleutian Islands Management Area; Pacific Cod Trawl Cooperative Program [0648-BL08]

Legal Authority: 16 U.S.C. 1801 et seq.

Abstract: In response to a recommendation by the North Pacific Fishery Management Council, this proposed action would implement Amendment 122 to the Fishery Management Plan (FMP) for Groundfish of the Bering Sea and Aleutian Islands Management Area (BSAI). If approved by the Secretary of Commerce and implemented by NMFS, the Pacific cod Trawl Cooperative Program (PCTC Program) would allocate quota share (QS) to groundfish License Limitation Program (LLP) license holders based on the harvest of BSAI Pacific cod during qualifying years. This Program would also allocate QS to a processor permit holder based on processing history during the qualifying years. QS allocated under this program would yield an exclusive harvest privilege to members of a PCTC Program cooperative. The Council's intent in recommending Amendment 122 is to improve the prosecution of the fishery by promoting safety and stability in the harvesting and processing sectors, increasing the value of the fishery, minimizing bycatch to the extent practicable, providing for the sustained participation of fishery dependent communities, and ensuring the sustainability and viability of the Pacific cod resource in the BSAI. The Council initiated action on this Limited Access Privilege Program (LAPP) in response to industry requests to address increasing inefficiency in the BSAI Pacific cod trawl catcher vessel sector by implementing a catch share program. Owners and operators of harvesters and processors that participate in the BSAI Pacific cod trawl fishery would be affected by this action. Section 304(b)(1)(A) of the Magnuson-Stevens Fishery Conservation and Management Act (MSA) is the rulemaking authority. Section 303A of the MSA authorizes the creation of LAPPs.

Timetable:

Action | Date | FR Cite
NPRM | 02/09/23 | 88 FR 8592
NPRM Comment Period End | 03/13/23 |
Final Action | 06/00/23 |

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BL08

38. Amendment 123 to the Fishery Management Plan for Groundfish of the Bering Sea and Aleutian Islands Management Area; Halibut Abundance-Based Management of Amendment 80 Prohibited Species Catch Limit [0648-BL42]

Legal Authority: 16 U.S.C. 1801 et seq.

Abstract: In response to a recommendation by the North Pacific Fishery Management Council (Council), this proposed action would implement Amendment 123 to the Fishery Management Plan (FMP) for Groundfish of the Bering Sea and Aleutian Islands Management Area (BSAI). If approved by the Secretary of Commerce and implemented by NMFS, this action would determine the BSAI Amendment 80 commercial groundfish trawl fleet's (A80) halibut prohibited species catch (PSC) limit annually based on the most recent values from surveys conducted by the Alaska Fisheries Science Center and the International Pacific Halibut Commission (IPHC). The Council's intent in recommending Amendment 123 is to link annual halibut PSC limits in the A80 fleet with estimated halibut abundance. The reason for the change being considered is that the current PSC limit, currently set as a fixed annual amount of 1,745 mt, becomes an increasingly larger proportion of total halibut removals in the BSAI when halibut abundance declines. Over the last 6 years, the Council and its advisory bodies, stakeholders, and the public have considered several approaches for a halibut abundance-based management (ABM) program consistent with Council fishery management objectives and the Magnuson-Stevens Fishery Conservation and Management Act (MSA). Public testimony on this action over the years has focused on two primary concerns. The first is the importance of providing flexibility to the A80 fleet to prosecute their quotas. The second is concern about the decline in the directed halibut fishery catch as a result of a decline in halibut abundance, compounded by fixed PSC limits that further reduce the proportion of halibut available to the directed halibut fisheries.

Timetable:

Action | Date | FR Cite
NPRM | 12/09/22 | 87 FR 75570
NPRM Comment Period End | 01/23/23 |
Final Action | 06/00/23 |

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BL42

39. 2023-2024 Harvest Specifications and Management Measures for the Pacific Coast Groundfish Fishery [0648-BL48]

Legal Authority: 16 U.S.C. 1801 et seq.

Abstract: Every other year, the Pacific Fishery Management Council makes recommendations to set biennial allowable harvest levels for Pacific Coast groundfish, and recommends management measures for commercial, recreational, and tribal fisheries that are designed to achieve those harvest levels consistent with the Pacific Coast Groundfish Fishery Management Plan. For the 2023-24 biennium, the Pacific Fishery Management Council has recommended: Harvest specifications, including overfishing limits, acceptable biological catches, and annual catch limits; and Management measures to achieve those specifications. The specifications and management measures that would be forwarded by this action would be in effect from January 1, 2023, through December 31, 2024. The National Marine Fisheries Service (NMFS) would implement this rulemaking under the authority of the Magnuson Stevens Fishery Conservation and Management Act.

Timetable:

Action | Date | FR Cite
NPRM | 10/14/22 | 87 FR 62676
NPRM Comment Period End | 11/14/22 |
Final Action | 12/16/22 | 87 FR 77007
Final Action Effective | 01/01/23 |
Final Rule Correcting Amendment | 03/01/23 | 88 FR 12865
Final Rule Correcting Amendment Effective | 03/01/23 |
Final Rule Second Correcting Amendment | 06/00/23 |

Regulatory Flexibility Analysis Required: Yes.

Agency Contact: Scott Rumsey, Acting Regional Administrator, West Coast Region, Department of Commerce, National Oceanic and Atmospheric Administration, 1201 NE Lloyd Boulevard, Suite 1100, Portland, OR 97232, Phone: 503 872-2791, Email: scott.rumsey@noaa.gov.

RIN: 0648-BL48

40. • 2023 Summer Flounder, Scup, and Black Sea Bass Recreational Management Measures [0648-BM09]

Legal Authority: 16 U.S.C. 1801 et seq.

Abstract: In response to the joint recommendation from the Mid-Atlantic Fishery Management Council and the Atlantic States Marine Fisheries Commission this rule would propose management measures such as recreational possession limits, minimum fish sizes, and seasonal closures to achieve the 2023 recreational harvest targets for summer flounder, scup, and black sea bass. For summer flounder, and black sea bass the Regional Administrator must implement coastwide measures or approve conservation equivalent measures per 50 CFR 648.102(d) as soon as possible following the Council and Commission's recommendation. This action proposes establishing conservation equivalency (i.e., waiving Federal measures in lieu of appropriate state water measures) for the recreational summer flounder and black sea bass fisheries in 2023 and proposes non-preferred coastwide measures to be effective in Federal waters if, ultimately, we are unable to approve conservation equivalency. This action also proposes minor changes recreational management measures for the Federal scup fishery.

Timetable:

Action | Date | FR Cite
NPRM | 03/30/23 | 88 FR 19046
NPRM Comment Period End | 04/14/23 |
Final Action | 06/00/23 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BM09

41. Amendment and Updates to the Pelagic Longline Take Reduction Plan [0648-BF90]

Legal Authority: 16 U.S.C. 1361 et seq.

Abstract: Serious injury and mortality of the Western North Atlantic short-finned pilot whale stock incidental to the Category I Atlantic pelagic longline fishery continues at levels exceeding their Potential Biological Removal. This proposed action would examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 12/15/20 | 85 FR 81168
NPRM Comment Period End | 02/16/21 |
Final Action | 06/00/23 |

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BF90

42. Designation of Critical Habitat for the Threatened Caribbean Corals [0648-BG26]

Legal Authority: 16 U.S.C. 1531 et seq.

Abstract: NMFS listed 5 Caribbean corals as threatened under the Endangered Species Act on October 10, 2014. Critical habitat shall be designated to the maximum extent prudent and determinable at the time a species is proposed for listing (50 CFR 424.12). We concluded that critical habitat was not determinable for the 5 corals at the time of listing. However, we anticipated that critical habitat would be determinable in the future given on-going research. We, therefore, announced in the final listing rules that we would propose critical habitat in separate rulemakings. This rule proposes to designate critical habitat for the 5 Caribbean coral species listed in 2014. A separate proposed critical habitat rule is being prepared for the 15 Indo-Pacific corals listed as threatened in 2014. The proposed designation for the Caribbean corals may include marine waters in Florida, Puerto Rico, U.S. Virgin Islands, Navassa Island, and Flower Garden Banks containing essential features that support all stages of life history of the corals. The proposed rule is not likely to have an annual effect on the economy of $100 million or more or adversely affect the economy. NMFS has contacted the Departments of the Navy, Air Force, and Army as well as the U.S. Coast Guard requesting information related to potential national security impacts that may result from the critical habitat designation. Based on information provided, we concluded that there will be an impact on national security in only 1 area offshore Dania Beach, FL, and will propose to exclude it from the designations.

Timetable:

Action | Date | FR Cite
NPRM | 11/27/20 | 85 FR 76302
NPRM Comment Period End | 01/26/21 |
Final Rule | 06/00/23 |

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BG26

43. Amendments to the North Atlantic Right Whale Vessel Strike Reduction Rule [0648-BI88]

Legal Authority: 16 U.S.C. 1361 et seq.; 16 U.S.C. 1531 et seq.

Abstract: NMFS published a proposed rule to amend the North Atlantic Right Whale Vessel Strike Reduction Rule (per 50 CFR 224.105; 87 FR 46921, August 1, 2022). NMFS proposed this action to further reduce the likelihood of mortalities and serious injuries to endangered right whales from vessel collisions, which are a leading cause of the species' decline and a primary factor in an ongoing Unusual Mortality Event. The proposed rule would (1) modify the spatial and temporal boundaries of current speed restriction areas, currently referred to as Seasonal Management Areas (SMAs), (2) include most vessels greater than or equal to 35 ft (10.7 m) and less than 65 ft (19.8 m) in length in the vessel size class subject to speed restriction, (3) create a Dynamic Speed Zone framework to implement mandatory speed restrictions when whales are known to be present outside active SMAs, and (4) update the speed rule's safety deviation provision. The proposed amendments to current speed regulations reduce vessel strike risk based on a coast wide collision mortality risk assessment and updated information on right whale distribution, vessel traffic patterns, and vessel strike mortality and serious injury events. NMFS solicited public comment on the proposed action and received over 90,000 public comments. The agency plans to take final action on the proposed rule in 2023.

Timetable:

Action | Date | FR Cite
NPRM | 08/01/22 | 87 FR 46921
NPRM Comment Period End | 09/30/22 |
NPRM Comment Period Extension | 09/16/22 | 87 FR 56925
NPRM Comment Period Extension End | 10/31/22 |
Final Action | 12/00/23 |

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BI88

44. Establishment of Time-Area Closures for Hawaiian Spinner Dolphins Under the Marine Mammal Protection Act [0648-BK04]

Legal Authority: 16 U.S.C. 1382 et seq.

Abstract: This rulemaking action under the Marine Mammal Protection Act (MMPA) proposes to establish mandatory time-area closures of Hawaiian spinner dolphins' essential daytime habitats at five selected sites in the Main Hawaiian Islands (MHI). In considering public comments in response to a separate proposed rule related to spinner dolphin interactions (81 FR 57854), NMFS intends these regulatory measures to prevent take of Hawaiian spinner dolphins from occurring in inshore marine areas at essential daytime habitats, and where high levels of disturbance from human activities are most prevalent.

Timetable:

Action | Date | FR Cite
NPRM | 09/28/21 | 86 FR 53844
NPRM Comment Period End | 12/27/21 |
Final Action | 10/00/23 |

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BK04

DEPARTMENT OF COMMERCE (DOC)

National Oceanic and Atmospheric Administration (NOAA)

Long-Term Actions

National Marine Fisheries Service

45. Regulatory Amendment to the Pacific Coast Groundfish Fishery Management Plan To Implement an Electronic Monitoring Program for Bottom Trawl and Non-Whiting Midwater Trawl Vessels [0648-BH70]

Legal Authority: 16 U.S.C. 1801 et seq.

Abstract: The proposed action would propose to implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action would intended to increase operational flexibility and reduce monitoring costs for the fleet.

Timetable:

Action | Date | FR Cite
NPRM | 03/01/22 | 87 FR 11382
NPRM Comment Period End | 03/31/22 |
Final Action | 10/03/22 | 87 FR 59705
Final Action Effective | 11/02/22 |
Next Action Undetermined | To Be Determined

Regulatory Flexibility Analysis Required: Yes.

Agency Contact: Scott Rumsey, Phone: 503 872-2791, Email: scott.rumsey@noaa.gov.

RIN: 0648-BH70

46. Amendment 14 to the Fishery Management Plan for the Salmon Fisheries in the EEZ off Alaska [0648-BK31]

Legal Authority: 16 U.S.C. 1801 et seq.

Abstract: This action would modify the Fishery Management Plan for the Salmon Fisheries in the EEZ off Alaska (FMP) and implement regulations to manage the EEZ waters of Cook Inlet under the FMP and prohibit commercial fishing for salmon in this area. Currently, this area is excluded from the FMP and the State of Alaska manages commercial fishing for salmon in this area. If approved, this action would result in all commercial salmon fishing in Cook Inlet occurring within waters of the State of Alaska under State management plans. The North Pacific Fishery Management Council (Council) determined that this action is consistent with the Council's longstanding policy to facilitate management of salmon fishing by the State of Alaska and that the State is the authority best suited for managing Alaska salmon fisheries given its existing infrastructure and expertise. The Council considered, but did not select, two other action alternatives that would delegate management of the Cook Inlet EEZ to the State of Alaska, or establish Council and NMFS management of the commercial salmon fishery within the area. The Council did not select either of these alternatives because the State of Alaska was unwilling to accept delegation of management authority, and due to the substantial increase in management complexity and cost without corresponding benefits of both alternatives.

Timetable:

Action | Date | FR Cite
NPRM | 06/04/21 | 86 FR 29977
NPRM Comment Period End | 07/06/21 |
Final Action | 11/03/21 | 86 FR 60568
Final Action Effective | 12/03/21 |
Next Action Undetermined | To Be Determined

Regulatory Flexibility Analysis Required: Yes.

Agency Contact: Jon Kurland, Phone: 907 586-7638, Email: jon.kurland@noaa.gov.

RIN: 0648-BK31

47. • Atlantic Highly Migratory Species; Amendment 16 to the 2006 Consolidated Atlantic Highly Migratory Species Fishery Management Plan [0648-BM08]

Legal Authority: 16 U.S.C. 1801 et seq.; 16 U.S.C. 971 et seq.

Abstract: NMFS is developing a proposed rule for Amendment 16 to the 2006 Consolidated Atlantic Highly Migratory Species (HMS) Fishery Management Plan (FMP) pursuant to Magnuson-Stevens Fishery Conservation and Management Act (MSA) sections 304(c) and (g). The draft Amendment will include a draft environmental impact statement and other required analyses. Based on the mechanism used in establishing shark quotas and related management measures from Amendment 14 to the 2006 Consolidated HMS FMP, Amendment 16 would modify the acceptable biological catch (ABC) and annual catch limits (ACLs) for Atlantic sharks and the process used to account for carryover of underharvests of quotas. In this action, NMFS would also look at all commercial and recreational management measures related to the Atlantic shark fishery and make appropriate revisions. Amendment 16 would affect the bottom longline, gillnet, and pelagic longline fisheries, which fish for sharks throughout the entire range of the fishery (Atlantic Ocean, Gulf of Mexico, and Caribbean Sea).

Timetable:

Action | Date | FR Cite
NPRM | 06/00/24 |

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BM08

DEPARTMENT OF COMMERCE (DOC)

National Oceanic and Atmospheric Administration (NOAA)

Completed Actions

48. Atlantic Highly Migratory Species: Amendment 13 on Bluefin Tuna Management [0648-BI08]

Legal Authority: 16 U.S.C. 1801 et seq.

Abstract: NOAA/NMFS proposes to revise the management measures for Atlantic bluefin tuna fisheries. Potential management measures could include modifications to pelagic longline and purse seine fisheries as well as other bluefin tuna fisheries, which would increase flexibility for fishery participants.

Timetable:

Action | Date | FR Cite
NPRM | 05/21/21 | 86 FR 27686
NPRM Comment Period End | 07/20/21 |
NPRM Comment Period Extended | 07/20/21 | 86 FR 38262
NPRM Comment Period Extended End | 09/09/21 |
Final Action | 10/03/22 | 87 FR 59966
Final Action Effective | 01/01/23 |

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI08

49. Amendment 23 to the Northeast Multispecies Fishery Management Plan [0648-BK17]

Legal Authority: 16 U.S.C. 1801 et seq.

Abstract: This action proposes measures recommended by the New England Fishery Management Council in Amendment 23 to the Northeast Multispecies Fishery Management Plan. The Council developed this action to implement measures to improve the reliability and accountability of catch reporting in the commercial groundfish fishery to ensure there is a precise and accurate representation of catch (landings and discards). The purpose of this action is to adjust the existing industry-funded monitoring program to improve accounting and accuracy of collected catch data. Specifically, this action would set a fixed target coverage rate as a percentage of fishing trips to replace the current annual method for calculating a coverage target. This action would exclude from the monitoring requirement all trips in geographic areas with low groundfish catch; allow for increased coverage when federal funding is available to reimburse industry's costs; set a baseline coverage target for which there is no reimbursement for industry's costs in the absence of federal funding; approve electronic monitoring technologies as an alternative to human at-sea monitors; require periodic evaluation of the monitoring program; allow for waivers from monitoring for good cause; and grant authority to the Northeast Regional Administrator to streamline industry's reporting requirements.

Timetable:

Action | Date | FR Cite
NPRM | 02/28/22 | 87 FR 11014
NPRM Comment Period End | 03/30/22 |
Final Action | 12/09/22 | 87 FR 75852
Final Action Effective | 01/09/23 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BK17

50. Revisions to Federal Regulations to Economic Data Reporting Requirements for Groundfish and Crab Fisheries Off Alaska and Amendment 52 to the Fishery Management Plan for Bsai King and Tanner Crabs [0648-BL50]

Legal Authority: 16 U.S.C. 1801 et seq.

Abstract: In response to a recommendation by the North Pacific Fishery Management Council (Council), this proposed action would implement Amendment 52 to the Fishery Management Plan (FMP) for the Commercial King and Tanner Crab Fisheries of the Bering Sea and Aleutian Islands Management Area (BSAI) and revise Federal regulations to economic data reporting (EDR) requirements for groundfish and crab fisheries off Alaska. If approved by the Secretary of Commerce and implemented by NMFS, this action would remove third party data verification audits and blind formatting requirements for the BSAI crab fisheries EDR, the Bering Sea American Fisheries Act (AFA) pollock fishery Chinook Salmon EDR, and the BSAI Amendment 80 fisheries EDR. This action would also eliminate the EDR requirements for the Gulf of Alaska (GOA) trawl fisheries. The EDRs provide information for program evaluation and analysis of proposed conservation and management measures. The third party data verification audits and blind formatting provisions require a higher standard of confidentiality for proprietary business information than apply to all other confidential fisheries information. These provisions have proven to reduce the usability of the data for analysis and to increase the cost of the data collection programs without providing additional practical protections. The GOA Trawl EDR program, implemented in 2015, was designed to collect baseline information to assess the impacts of a future catch share program. However, no catch share program for the GOA trawl fleet has been implemented to date. The Council initiated this action to improve the usability, efficiency, and consistency of the data collection programs and minimize cost to industry and the Federal government while still maintaining the integrity and confidentiality of the data collection program. Owners and operators of harvesters and processors in the BSAI crab fisheries, the AFA pollock fishery, the Amendment 80 fisheries, and the GOA trawl fisheries would be affected by this action. Section 304(b)(1)(A) of the Magnuson-Stevens Fishery Conservation and Management Act is the rulemaking authority.

Timetable:

Action | Date | FR Cite
NPRM | 11/01/22 | 87 FR 65724
NPRM Comment Period End | 12/01/22 |
Final Action | 02/06/23 | 88 FR 7586
Final Action Effective | 03/08/23 |

Regulatory Flexibility Analysis Required: Yes.

Agency Contact: Jon Kurland, Regional Administrator, Alaska Region, Department of Commerce, National Oceanic and Atmospheric Administration, 709 West Ninth Street, Juneau, AK 99801, Phone: 907 586-7638, Email: jon.kurland@noaa.gov.

RIN: 0648-BL50

51. • Framework Adjustment 36 to the Atlantic Sea Scallop Fishery Management Plan [0648-BL99]

Legal Authority: 16 U.S.C. 1801 et seq.

Abstract: At its December 2022 meeting the New England Fishery Management Council voted to submit Framework 36 to NOAA's National Marine Fisheries Service (NMFS). Through this rulemaking, NMFS approves and implements the measures included in Framework Adjustment 36 to the Atlantic Sea Scallop Fishery Management Plan as adopted and submitted by the New England Fishery Management Council. Framework 36 establishes scallop specifications and other measures for fishing years 2023 and 2024. Framework 36 implements measures to protect small scallops to support rotational access area trips to the fleet in future years. To promote uniformity in the fishery, this final rule also corrects and clarifies regulatory text that is unnecessary, outdated, or unclear. This action is necessary to prevent overfishing and improve both yield-per-recruit and the overall management of the Atlantic sea scallop resource.

Timetable:

Action | Date | FR Cite
NPRM | 03/03/23 | 88 FR 13408
NPRM Comment Period End | 03/20/23 |
Final Action Effective | 03/31/23 |
Final Action | 04/03/23 | 88 FR 19559

Regulatory Flexibility Analysis Required:Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BL99

DEPARTMENT OF COMMERCE (DOC)

Patent and Trademark Office (PTO)

Proposed Rule Stage

52. Setting and Adjusting Patent Fees [0651-AD64]

Legal Authority: Pub. L. 112-29

Abstract: The United States Patent and Trademark Office (USPTO or Office) takes this action to set and adjust Patent fee amounts to provide the Office with a sufficient amount of aggregate revenue to recover its aggregate cost of operations while helping the Office maintain a sustainable funding model, decrease patent pendency, and improve the reliability of issued patents.

Timetable:

Action | Date | FR Cite
NPRM | 01/00/24 |
NPRM Comment Period End | 04/00/24 |
Final Action | 10/00/24 |
Final Action Effective | 12/00/24 |

Regulatory Flexibility Analysis Required: Yes.

Agency Contact: Brendan Hourigan, Director, Office of Planning and Budget, Department of Commerce, Patent and Trademark Office, P.O. Box 1450, Alexandria, VA 22313-1450, Phone: 571 272-8966, Fax: 571 273-8966, Email: brendan.hourigan@uspto.gov.

RIN: 0651-AD64

53. Setting and Adjusting Trademark Fees [0651-AD65]

Legal Authority: Pub. L. 112-29

Abstract: The United States Patent and Trademark Office (USPTO or Office) takes this action to set and adjust Trademark fee amounts to provide the Office with a sufficient amount of aggregate revenue to recover its aggregate cost of operations while helping the Office maintain a sustainable funding model, ensure the integrity of the Trademark register, and promote efficiency of processes.

Timetable:

Action | Date | FR Cite
NPRM | 11/00/23 |
NPRM Comment Period End | 01/00/24 |
Final Action | 07/00/24 |
Final Action Effective | 09/00/24 |

Regulatory Flexibility Analysis Required: Yes.

Agency Contact: Brendan Hourigan, Director, Office of Planning and Budget, Department of Commerce, Patent and Trademark Office, P.O. Box 1450, Alexandria, VA 22313-1450, Phone: 571 272-8966, Fax: 571 273-8966, Email: brendan.hourigan@uspto.gov.

RIN: 0651-AD65

[FR Doc. 2023-14573 Filed 7-26-23; 8:45 am]

BILLING CODE 3410-12-P